Proclamation 8991 of May 31, 2013

National Oceans Month, 2013

By the President of the United States of America

A Proclamation

From providing food and energy to helping sustain our climate and our security, the oceans play a critical role in nearly every part of our national life. They connect us to countries around the world, and support transportation and trade networks that grow our economy. For millions of Americans, our coasts are also a gateway to good jobs and a decent living. All of us have a stake in keeping the oceans, coasts, and Great Lakes clean and productive—which is why we must manage them wisely not just in our time, but for generations to come.

Rising to meet that test means addressing threats like overfishing, pollution, and climate change. Alongside partners at every level of government and throughout the private sector, my Administration is taking up that task. Earlier this year, we finalized a plan to turn our National Ocean Policy into concrete actions that protect the environment, streamline Federal operations, and promote economic growth. The plan charts a path to better decision-making through science and data sharing, and it ensures tax dollars are spent more efficiently by reducing duplication and cutting red tape. Best of all, it puts stock in the American people—drawing on their knowledge and empowering communities to bring local solutions to the challenges we face.

By making smart choices in ocean management, we can give our businesses the tools they need to thrive while protecting the long-term health of our marine ecosystems. Let us mark this month by renewing those goals, reinvesting in our coastal economies, and recommitting to good stewardship in the years ahead.

NOW, THEREFORE, I, BARACK OBAMA, President of the United States of America, by virtue of the authority vested in me by the Constitution and the laws of the United States, do hereby proclaim June 2013 as National Oceans Month. I call upon Americans to take action to protect, conserve, and restore our oceans, coasts, and the Great Lakes.

IN WITNESS WHEREOF, I have hereunto set my hand this thirty-first day of May, in the year of our Lord two thousand thirteen, and of the Independence of the United States of America the two hundred and thirty-seventh.

[FR Doc. 2013-13547

Filed 6-5-13; 8:45 am]

Billing code 3295-F3